DEPARTMENT OF COMMERCE

National Oceanic and Atmospheric Administration

RIN 0648-XV032

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Joint Committee and Advisory Panel to consider actions affecting New England fisheries in the exclusive economic zone (EEZ). Recommendations from this group will be brought to the full Council for formal consideration and action, if appropriate.

DATES: This meeting will be held on Tuesday, September 10, 2019 at 9 a.m.

ADDRESSES: The meeting will be held at the Sheraton Harborside, 250 Market Street, Portsmouth, NH 03801; telephone: (603) 431-2300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee and Advisory Panel will review preliminary analysis being prepared for a New England Fishery Management Council Discussion Document on spawning of Atlantic herring on Georges Bank and discuss possible next steps. They will provide input on a debrief of the Management Strategy Evaluation (MSE) process used to develop Amendment 8 to the Atlantic Herring Fishery Management Plan. The group will also provide initial input on potential 2020 work priorities for the Herring Fishery Management Plan that will be forwarded to the Council. They also plan to receive an update on the Commercial Electronic Vessel Trip Reporting (eVTR) Omnibus Framework, which proposes to implement eVTRs for all vessels with commercial permits for species managed by the Mid-Atlantic and New England Fishery Management Councils. There will be a closed session for the Herring Committee only to review Herring Advisory Panel applications for 2020-22 and provide recommendations. Other business may be discussed as necessary

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 16, 2019.
Tracey L. Thompson,
Acting Deputy Director, Office of Sustainable Fisheries, National Marine Fisheries Service.

[FR Doc. 2019-18070 Filed 8-21-19; 8:45 am]

BILLING CODE 3510-22-P